DEPARTMENT OF LABOR

Occupational Safety and Health Administration

[Docket No. OSHA-2008-0029]

Advisory Committee on Construction Safety and Health (ACCSH) and ACCSH Work Groups; Meeting

AGENCY: Occupational Safety and Health Administration (OSHA), Department of Labor.

ACTION: Announcement of a meeting of the Advisory Committee on Construction Safety and Health (ACCSH) and ACCSH Work Groups.

SUMMARY: ACCSH Work Groups will meet September 9-10, 2008, and ACCSH will meet September 11-12, 2008, in Washington, DC.

DATES: ACCSH Work Groups: ACCSH Work Groups will meet September 9-10, 2008 from 8:30 a.m. to 4:15 p.m. (See the Work Group Schedule information in the SUPPLEMENTARY INFORMATION section of this notice.).

ACCSH: ACCSH will meet Thursday, September 11, 2008, from 8:30 a.m. to 5 p.m. and Friday, September 12, 2008, from 8:30 a.m. to 12 p.m.

Submission of comments, requests to speak to ACCSH and requests for special accommodation: Comments, requests to speak and requests for special accommodation must be submitted (postmarked, sent, received) by September 2, 2008.

ADDRESSES: ACCSH and ACCSH Work Group Meetings: ACCSH and ACCSH Work Group Meetings will be held in Room N-3437A-D at the U.S. Department of Labor, 200 Constitution Avenue, NW., Washington, DC 20210.

Submission of comments, requests to speak at the ACCSH or ACCSH Work Group meetings: Interested parties may submit comments and requests to speak:

Electronically: You may submit materials, including attachments, electronically at www.regulations.gov, which is the Federal eRulemaking Portal. Follow the on-line instructions for submissions.

Facsimile (FAX): If your submission, including attachments is not longer than 10 pages, you may fax it to the OSHA Docket Office at: (202) 693-1648.

Mail, hand delivery, express mail, messenger, or courier service: Submit three copies of your submissions to the OSHA Docket Office, Room N-2625, U.S. Department of Labor, 200 Constitution Avenue, NW., Washington, DC 20210; FAX (202) 693-1648. Deliveries (hand, express mail, messenger, and courier service) are accepted during the Department of Labor's and OSHA Docket Office's normal business hours, 8:15 a.m.-4:45 p.m., e.t. For assistance submitting materials to the OSHA's Docket Office please call, telephone (202) 693-2350 or TTY (877) 889-5627).

Requests for Special Accommodations: Submit requests for special accommodations by telephone or e-mail to Ms. Veneta Chatmon, OSHA, Office of Communications, Room N-3647, U.S. Department of Labor, 200 Constitution Avenue, NW., Washington, DC 20210; telephone (202) 693-1999; e-mail chatmon.veneta@dol.gov.

Requests during meeting to address ACCSH:

Instructions: All submissions, requests to speak and requests for special accommodations must include the Agency name and the docket number for this meeting (Docket No. OSHA-2008-0029). Because of security-related procedures, submissions by regular mail may experience significant delays.

All submissions, including personal information, are placed in the public docket without change and may be available online. Therefore, OSHA cautions against submitting personal information such as social security numbers and birthdates. For further information on submitting comments, requests to speak and requests for public accommodation, see the Public Participation information in the SUPPLEMENTARY INFORMATION section of this notice.

FOR FURTHER INFORMATION CONTACT: For press inquiries: Ms. Jennifer Ashley, OSHA, Office of Communications, Room N-3647, U.S. Department of Labor, 200 Constitution Avenue, NW., Washington, DC 20210; telephone (202) 693-1999; e-mail ashley.jennifer@dol.gov.

For general information about ACCSH and ACCSH meetings: Mr. Michael Buchet, OSHA, Directorate of Construction, Room N-3468, U.S. Department of Labor, 200 Constitution Avenue, NW., Washington, DC 20210; telephone (202)-693-2020; e-mail buchet.michael@dol.gov.

For information about submitting comments or requests to speak to ACCSH, and for special accommodations for the meetings: Ms. Veneta Chatmon, OSHA, Office of Communications, Room N-3647, U.S. Department of Labor, 200 Constitution Avenue, NW., Washington, DC 20210; telephone (202) 693-1999; e-mail chatmon.veneta@dol.gov.

SUPPLEMENTARY INFORMATION:

ACCSH Meeting

ACCSH will meet September 11-12, 2008, in Washington, DC. The meeting is open to the public.

ACCSH is authorized to advise the Assistant Secretary of Labor for Occupational Safety and Health in the formulation of standards affecting the construction industry and on policy matters arising in the administration of the safety and health provisions of the Contract Work Hours and Safety Standards Act (Construction Safety Act) (40 U.S.C. 3701, 3704) and the Occupational Safety and Health Act of 1970 (29 U.S.C. 651 et seq. ). (See also, 29 CFR 1911.10 and 1912.3).

The agenda for this meeting includes:

• Comments from the Office of the Assistant Secretary;

• ACCSH's consideration of and recommendations on the following proposed rule:

○ Globally Harmonized System—Revision of OSHA's Hazard Communication Standard to adopt the Globally Harmonized System of Classification and Labeling of Chemicals (GHS);

• Construction Standards Update—OSHA, Directorate of Construction (DOC);

• Occupational Injury, Illness, Fatality and related OSHA data, overview—Bureau of Labor Statistics (BLS) and OSHA, Directorate of Evaluation and Analysis (DEA);

• Mast Climbing Scaffold Update, The Center for Construction Research and Training (CPWR);

• Cooperative Programs Update—OSHA Challenge, Voluntary Protection Program Mobile Work Force Demonstration (VPP-C)—OSHA, Directorate of Cooperative and State Programs (DCSP);

• Work Group Reports, Work Group and Committee Administration;

• Public Comment Period.

All ACCSH meetings, as well as those of its Work Groups, are open to the public. Individuals needing special accommodations for the ACCSH meeting or ACCSH Work Group meetings should contact Ms. Chatmon by September 2, 2008 (see the ADDRESSES section of this notice).

ACCSH meetings are transcribed and detailed minutes of the meetings are prepared. Meeting transcripts and minutes are included in the official record of ACCSH meetings. Work Group reports are included in the ACCSH meeting record.

ACCSH Work Group Meetings

In conjunction with the ACCSH meeting, the following ACCSH Work Groups will meet:

• Multilingual—8:30 to 10 a.m., September 9, 2008;

• Silica—8:30 to 10 a.m., September 9, 2008;

• Diversity-Women in Construction—10:30 a.m. to 12 p.m., September 9, 2008;

• Residential Fall Protection—1:45 to 4:15 p.m., September 9, 2008;

• Focused Inspection Initiative—8:30 to 10 a.m., September 10, 2008;

• Trenching—8:30 to 10 a.m., September 10, 2008;

• ROPS (Rollover Protective Systems)—10:30 a.m. to 12 p.m., September 10, 2008;

• OTI (OSHA Training Institute)—1:45 to 4:15 p.m., September 10, 2008.

For additional information on ACCSH Work Group meetings or participating in them, please contact Mr. Michael Buchet at the address above or look on the ACCSH page on OSHA's Web page at http://www.osha.gov.

Public Participation

ACCSH Meetings and ACCSH Work Group Meetings Security Measures: ACCSH and ACCSH Work Group meetings are open to the public. Admission to the Department of Labor Building and the meetings requires valid government issued photo identification and a brief security check-in procedure at the Department of Labor's Visitor's entrance, 3rd and “C” Streets, NW., Washington, DC 20210. Meeting attendees should allow an extra 15 minutes to check in and reach the meeting rooms.

Submission of written comments and requests to address ACCSH. Interested parties may request to make oral presentations to ACCSH by notifying Ms. Veneta Chatmon at the address above by September 2, 2008. The request must state the amount of time desired, the interest the presenter represents (e.g., businesses, organizations, themselves, affiliations, etc.), if any, and a brief outline of the presentation. Alternately, at the Committee meeting, attendees may request to address ACCSH by signing the public comment request sheet and listing the interests they represent (e.g., businesses, organizations, themselves, affiliations, etc., if any) and the topics to be addressed. All requests to present to or address the committee may be granted at the ACCSH Chair's discretion and as time and circumstances permit.

Attendees may submit written data, views, or comments, preferably with 20 copies, to Ms. Chatmon for distribution to ACCSH. Submissions, including personal information provided, will be included without change in the meeting record and posted at www.regulations.gov. Therefore, OSHA cautions interested parties about submitting certain personal information such as birth dates and social security numbers.

Access to the official record of ACCSH meetings, including Work Group reports: To read or download submissions or the official record of this ACCSH meeting, go to Docket No. OSHA-2008-0029 at www.regulations.gov. The official meeting record and all submissions for this meeting will be listed in the www.regulations.gov index. Although listed in the index, some documents (e.g., copyrighted materials) are not publicly available through www.regulations.gov. The official record and all submissions, including materials not available through www.regulations.gov, will be available for inspection and copying in the OSHA Docket Office at the address above.

Authority and Signature: Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), 29 CFR 1911 and 1912, and Secretary of Labor's Order No. 5-2007 (72 FR 31159).

Edwin G. Foulke, Jr.,
Assistant Secretary of Labor for Occupational Safety and Health.

[FR Doc. E8-19560 Filed 8-22-08; 8:45 am]

BILLING CODE 4510-26-P